DEPARTMENT OF LABOR

Employment and Training Administration

[TA-W-40,194]

Tyco Electronics/AMP Carlisle, PA; Notice of Termination of Investigation

Pursuant to section 221 of the Trade Act of 1974, an investigation was initiated on October 9, 2001, in response to a petition filed by workers on behalf of all workers at Tyco Electronics/AMP, Carlisle, Pennsylvania.

The petition group of workers is under an existing petition investigation for which a determination has not been issued (TA-W-39,972). Consequently, further investigation in this case would serve no purpose, and the investigation has been terminated.

Signed in Washington, DC, this 30th day of October, 2001.
Linda G. Poole,
Certifying Officer, Division of Trade Adjustment Assistance.

[FR Doc. 01-28170 Filed 11-8-01; 8:45 am]

BILLING CODE 4510-30-M